DEPARTMENT OF HEALTH AND HUMAN SERVICES

National Institutes of Health

Center for Scientific Review; Amended Notice of Meeting

Notice is hereby given of a change in the meeting of the Interdisciplinary Molecular Sciences and Training Integrated Review Group, Center for Scientific Review Special Emphasis Panel, December 5, 2024, 10 a.m. to December 5, 2024, 4 p.m., National Institutes of Health, Rockledge II, 6701 Rockledge Drive, Bethesda, MD 20892 which was published in the Federal Register on November 08, 2024, 89 FR 88789, Doc 2024-25937.

This meeting is being amended to change the meeting start time from 10:00 a.m. to 8:00 a.m. to accommodate an increase in applications being discussed. The meeting is closed to the public.

Dated: November 22, 2024.
Miguelina Perez,
Program Analyst, Office of Federal Advisory Committee Policy.

[FR Doc. 2024-28001 Filed 11-27-24; 8:45 am]

BILLING CODE 4140-01-P